DEPARTMENT OF HEALTH AND HUMAN SERVICES

Centers for Disease Control and Prevention

[Program Announcement 00021]

Cooperative Agreement to the Pan American Health Organization (PAHO) to Initiate the Post Hurricane Reconstruction of the Public Healthcare System in Central America and the Carribean; Notice of Availability of Funds

A. Purpose

The Centers for Disease Control and Prevention (CDC), announces the availability of funds for Fiscal Year (FY) 2000 for a cooperative agreement with the Pan American Health Organization (PAHO). The purpose of this program is to provide support for coordination of organizational planning, networking of laboratory support services, and assistance to Ministries of Health for developing programs to prevent and control priority infectious diseases for the initiative to reconstruct sustainable health services in the sub-region affected by Hurricanes Georges and Mitch in September and October 1998, (including Honduras, Guatemala, El Salvador, Nicaragua, Dominican Republic, Haiti and Costa Rica).

This program addresses the Healthy People 2000 priority areas of Educational and Community-Based Programs.

B. Eligible Applicant

Assistance will be provided only to the Pan American Health Organization for this project. No other applications are solicited. PAHO is the most appropriate and qualified agency to conduct the activities under this cooperative agreement because of its longstanding relationships with Ministries of Health in the sub-region. Additionally:

1. PAHO has the lead responsibility among the United Nations organizations for implementing activities in the sub-region. PAHO is the only organization with a regional mandate for the control and prevention of diseases.

2. The proposed program is strongly supportive of and directly related to the achievement of PAHO and CDC/Hurricane Reconstruction Project's objectives for the sustainable capacity for assessment of health status and the early detection and re-establishment of the effective response to outbreaks and changes in disease patterns.

Note: Public Law 104-65 states that an organization described in section 501(c)(4) of the Internal Revenue Code of 1986 that engages in lobbying activities is not eligible to receive Federal funds constituting an award, grant, cooperative agreement, contract, loan, or any other form.

C. Availability of Funds

Approximately $1,000,000 is available in FY 2000 to support this cooperative agreement. It is expected the award will begin on April 1, 2000, for a 12-month budget period within a 2-year project period. The funding estimate is subject to change. Continuation award within the project period will be made on the basis of satisfactory progress and availability of funds.

D. Program Requirements

In conducting activities to achieve the purpose of this program, the recipient will be responsible for the activities under 1. (Recipient Activities) and CDC will be responsible for the activities listed under 2. (CDC Activities).

1. Recipient Activities

(a) Coordinate disease control and prevention strategy development including analysis and dissemination of health information, sponsorship of meetings for any two or more countries and multi-country strategies and periodic technical meetings.

(b) Coordinate the planning for a regional laboratory network and develop reference centers and provide quality assurance and quality control training and manuals for involved countries.

(c) Provide assistance to Ministries of Health for developing programs to prevent and control priority infectious diseases. Examples of activities include urban malaria control, monitoring drug resistance, and the promotion of community based prevention strategies. Community participation and social mobilization for dengue control and/or water and sanitation.

(d) Coordinate with the Training Programs in Epidemiology and Public Health Interventions Network (TEPHINET) and others. Coordinate their activities with those of other partners working in the area. These include TEPHINET and United States Agency for International Development (USAID).

2. CDC Activities

(a) Overall program coordination between partners: PAHO, TEPHINET, and other collaborating agencies.

(b) Provide assistance to PAHO for communications and surveillance strategies.

E. Application Content

Use the information in the Program requirements, Other Requirements, and Evaluation Criteria sections to develop the application content. The applicant must provide long-term (two years) and short-term (one year) objectives, a narrative plan that indicates how these objectives will be met, a budget and budget justification consistent with the proposed activities, and any other information that supports the request for assistance. The application will be evaluated on the criteria listed, so it is important to follow them in laying out the program plan. The narrative should be no more than 25 double-spaced pages, printed on one side, with one-inch margins, and unreduced font.

F. Submission and Deadline

Submit the original and two copies of PHS 5161-1 (OMB Number 0937-0189). Forms are available at the following Internet address: www.cdc.gov/ . . . Forms, or in the application kit. On or before March 10, 2000 submit the application to the Grants Management Specialist identified in the “Where to Obtain Additional Information” section of this announcement.

The application shall be considered as meeting the deadline if it is either:

1. Received on or before the deadline date; or

2. Send on or before the deadline date and received in time for submission to the Review Panel. The applicant must request a legibly dated U.S. Postal Service postmark or obtain a legibly dated receipt from a commercial carrier or U.S. Postal Service. Private metered postmark shall not be acceptable as proof of timely mailing.

G. Evaluation Criteria

The application will be evaluated against the following criteria by an independent review group appointed by CDC.

1. Background and Need (25 points): The extent to which the applicant presents data justifying the need for the program in terms of the magnitude of damage attributable to Hurricanes Georges and Mitch. The extend to which a description of current and previous related experiences demonstrates a capacity to facilitate communications between countries in the project region.

2. Goals and Objectives (40 points):

The extent to which the goals and objectives relate to the overall purpose of the Post-Hurricane Reconstruction Program, are specific, time-phases, measurable and feasible.

3. Methods (35 points): The extent to which the applicant provides a detailed description of proposed activities which are likely to achieve each objective and overall program goals and which includes designation of responsibility for each action undertaken. The extent to which the applicant provides a reasonable and complete schedule for implementing all activities. The extent to which position description, CV's and lines of command are appropriate to accomplishment of program goals and objectives and to which concurrence with the applicant's by all other involved parties is specific and documented.

4. Budget and Justification (not scored): The extent to which the budget request is clearly justified and consistent with the intended use of funds.

H. Other Requirements

Technical Reporting Requirements

Provide CDC with original plus two copies of:

1. Quarterly Progress Reports, no more than 30 days after the end of the period;

2. Financial status report, no more than 30 days after the end of the budget period; and

3. Final financial status report and performance report, no more than 90 days after the end of the project period.

4. Conference Reports.

Send all reports to the Grants Management Specialist identified in the “Where to Obtain Additional Information” section of this announcement.

The following additional requirements are applicable to this program. For a complete description of each, see Attachment 1 in the application kit.

AR-11—Healthy People 2000

AR-12—Lobbying Restrictions

AR-20—Conference Support

I. Authority and Catalog of Federal Domestic Assistance Number

This program is authorized under Sections 301 and 307 of the Public Health Service Act, 42 U.S.C. section 241 and 242l, and section 104 of the Foreign Assistance Act of 1961, 22 U.S.C. 2151b. The Catalog of Federal Domestic Assistance Number is 93.185.

J. Where to Obtain Additional Information

If you have questions after reviewing the contents of all the documents, business management technical assistance may be obtained from: Van Malone, Grants Management Specialist, Grants Management Branch, Procurement and Grants Office, Centers for Disease Control and Prevention, Room 3000, 2920 Brandywine Road, Atlanta, GA 30341-4146, Telephone number: 770-488-2733, Email address: vxm7@cdc.gov.

For program technical assistance, contact: Guillermo Herrera, Centers for Disease Control and Prevention, Epidemiology Program Office, Division of International Health, 4770 Buford Highway, MS K 72, Atlanta, GA 30341, Telephone number: 770-488-8322, E-mail gah9@cdc.gov.

For this and other open program announcement, see the CDC home page on the Internet: http://www.cdc.gov.

Dated: January 26, 2000.
John L. Williams,
Director, Procurement and Grants Office, Centers for Disease Control and Prevention (CDC).

[FR Doc. 00-2070 Filed 1-31-00; 8:45 am]

BILLING CODE 4163-18-P